DEPARTMENT OF TRANSPORTATION

Federal Railroad Administration

[Docket Number FRA-2012-0079]

Notice of Petition for Extension of Waiver of Compliance

AGENCY: Federal Railroad Administration (FRA), Department of Transportation (DOT).

ACTION: Notice.

SUMMARY: This document provides the public notice that Long Island Rail Road (LIRR) petitioned FRA for an extension of relief from certain regulations concerning hours of service.

DATES: FRA must receive comments on the petition by May 30, 2025. FRA will consider comments received after that date to the extent practicable.

ADDRESSES:

Comments: Comments related to this docket may be submitted by going to https://www.regulations.gov and following the online instructions for submitting comments.

Instructions: All submissions must include the agency name and docket number. All comments received will be posted without change to https://www.regulations.gov; this includes any personal information. Please see the Privacy Act heading in the SUPPLEMENTARY INFORMATION section of this document for Privacy Act information related to any submitted comments or materials.

Docket: For access to the docket to read background documents or comments received, go to https://www.regulations.gov and follow the online instructions for accessing the docket.

FOR FURTHER INFORMATION CONTACT: Bill Smith, Railroad Safety Specialist, FRA Operating Practices Division, telephone: 682-305-6709, email: william.smith@dot.gov.

SUPPLEMENTARY INFORMATION: Under part 211 of title 49 Code of Federal Regulations (CFR), this document provides the public notice that by letter dated April 3, 2025, LIRR petitioned FRA for an extension of a waiver of compliance from certain provisions of the Federal railroad safety regulations contained at 49 CFR part 228 (Passenger Train Employee Hours of Service; Recordkeeping and Reporting; Sleeping Quarters). The relevant Docket Number is FRA-2012-0079.

Specifically, LIRR seeks an extension of relief from the on-duty requirements in § 228.405(a)(3), Limitations on duty hours of train employees engaged in commuter or intercity rail passenger transportation, which states that a train employee may not go on duty, under certain circumstances, including in a series of at most 14 consecutive calendar days. The existing relief allows LIRR employees to “reset” the series of at most 14 consecutive calendar days after a “general pick” (a biannual event allowing train employees to bid on jobs, with jobs being awarded based on an employee's seniority) or a large timetable revision. In its petition, LIRR explains that the relief is needed during the general picks, which occur in May and November of each year, and the timetable revisions, also occurring about twice per year.

In support of its request, LIRR states that the unions representing employees impacted by the relief (the International Association of Sheet Metal, Air, Rail and Transportation Workers—General Committee of Adjustment 505 and the Brotherhood of Locomotive Engineers and Trainmen—General Committee of Adjustment) support the request for extension.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

Communications received by May 30, 2025 will be considered by FRA before final action is taken. Comments received after that date will be considered if practicable.

Privacy Act

Anyone can search the electronic form of any written communications and comments received into any of FRA's dockets by the name of the individual submitting the comment (or signing the document, if submitted on behalf of an association, business, labor union, etc.). Under 5 U.S.C. 553(c), DOT solicits comments from the public to inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2025-07483 Filed 4-29-25; 8:45 am]

BILLING CODE 4910-06-P